DEPARTMENT OF COMMERCE

International Trade Administration

[A-122-822]

Notice of Amended Final Results of Antidumping Duty Administrative Review: Certain Corrosion-Resistant Carbon Steel Flat Products from Canada

AGENCY: Import Administration, International Trade Administration, Department of Commerce.

SUMMARY: On March 21, 2005, the Department of Commerce (Department) published the final results of its administrative review of the antidumping duty order on certain corrosion-resistant carbon steel flat products (CORE) from Canada for the period from August 1, 2002, through July 31, 2003 in the Federal Register. See Certain Corrosion-Resistant Carbon Steel Flat Products from Canada: Final Results of Antidumping Duty Administrative Review, 70 FR 13458 (March 21, 2005) (Final Results). We are amending our Final Results to correct a ministerial error alleged by the group of Dofasco Inc., Sorevco Inc., and Do Sol Galva Ltd. (Dofasco) pursuant to section 751(h) of the Tariff Act of 1930, as amended (the Act).

EFFECTIVE DATE: May 3, 2005.

FOR FURTHER INFORMATION CONTACT: Sean Carey or Candice Kenney Weck, at (202) 482-3964 or (202) 482-0938, respectively; AD/CVD Operations, Office 6, Import Administration, International Trade Administration, U.S. Department of Commerce, 14th Street & Constitution Avenue, NW., Washington, DC 20230.

SUPPLEMENTARY INFORMATION:

Scope of the Order

The product covered by this antidumping duty order is certain corrosion-resistant steel, and includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (HTS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090. Included in this order are corrosion-resistant flat-rolled products of non-rectangular cross-section where such cross-section is achieved subsequent to the rolling process (i.e., products which have been “worked after rolling”)-- for example, products which have been beveled or rounded at the edges. Excluded from this order are flat-rolled steel products either plated or coated with tin, lead, chromium, chromium oxides, both tin and lead (“terne plate”), or both chromium and chromium oxides (“tin-free steel”), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%-60%-20% ratio.

Amendment of Final Results

On March 21, 2005, the Department published the Final Results of the antidumping duty administrative review of certain corrosion-resistant carbon steel flat products (subject merchandise) from Canada for the period August 1, 2002, through July 31, 2003. Dofasco alleged a ministerial error in the Department's programming with respect to the classification of Dofasco's U.S. sales as either Constructed Export Price (CEP) or Export Price (EP). In addition, we identified an inadvertent error in the Final Results regarding the timing of the issuance of assessment instructions.

First, we are amending our Final Results to correct a ministerial error alleged by Dofasco pursuant to section 751(h) of the Act. On March 29, 2005, in accordance with section 751(h) of the Act and 19 CFR 351.224(c)(2), Dofasco filed a timely allegation that the Department erred in its calculation of the antidumping duty margin by treating all of Dofasco's U.S. sales as CEP sales. Dofasco has four separate channels of U.S. sales. As indicated in the Final Results, the Department intended to classify Channels 1 and 4 as EP sales, and Channels 2 and 3 as CEP sales. However, Dofasco contends that the SAS code in the U.S. Sales program resulted in all four channels of U.S. sales being classified as CEP sales.

After reviewing Dofasco's allegation, we have determined that the alleged error is a ministerial error pursuant to section 751(h) of the Act and 19 CFR 351.244(f). We agree with Dofasco that the Department inadvertently used SAS language that resulted in the classification of all Dofasco's U.S. sales as CEP sales. Therefore, we have amended the SAS programming to correct an above-described ministerial error.

Second, in the “Assessment” section of the Final Results, the Department indicated that it would “issue appropriate assessment instructions directly to CBP within 15 days of publication of these final results of review.” The “within 15 days of publication” description is incorrect in the notice. Section 356.8 of the Department's regulations provides that the Department shall not order liquidation until the “forty-first day after the date of publication of the notice ...” following an administrative review of merchandise exported from Canada or Mexico. Accordingly, the Department will send assessment instructions to CBP “on or after the 41st day after publication.”

Amended Final Results of Review

In the Final Results, the Department determined the antidumping margin for Dofasco to be 2.31 percent. As a result of correcting the ministerial error, the amended antidumping margin for Dofasco is 2.15 percent.

This correction is issued and published in accordance with section 777(i) of the Act.

Dated: April 27, 2005.
Barbara E. Tillman,
Acting Assistant Secretary for Import Administration.

[FR Doc. E5-2142 Filed 5-2-05; 8:45 am]

BILLING CODE 3510-DS-S